FEDERAL RESERVE SYSTEM

Privacy Act of 1974; System of Records

AGENCY: Board of Governors of the Federal Reserve System.

ACTION: Notice of a modified system of records.

SUMMARY: Pursuant to the provisions of the Privacy Act of 1974, notice is given that the Board of Governors of the Federal Reserve System (Board) proposes to modify an existing system of records, entitled BGFRS-41, “FRB—Ethics Program Records,” which maintains information collected in connection with the administration of the Board's Ethics Program and enables the Board to ensure public trust in the Board's and the Federal Open Market Committee's monetary responsibilities.

DATES: This modified system of records will become effective upon publication in the Federal Register, without further notice, unless comments dictate otherwise. Comments must be received on or before July 6, 2022.

The Office of Management and Budget (OMB), which has oversight responsibility under the Privacy Act, requires a 30-day period prior to publication in the Federal Register in which to review the system and to provide any comments to the agency. The public is then given a 30-day period in which to comment, in accordance with 5 U.S.C. 552a(e)(4) and (11).

ADDRESSES: You may submit comments, identified by BGFRS-41 “FRB—Ethics Program Records,” by any of the following methods:

• Agency Website: https://www.federalreserve.gov. Follow the instructions for submitting comments at https://www.federalreserve.gov/apps/foia/proposedregs.aspx.

• Email: regs.comments@federalreserve.gov. Include name and number in the subject line of the message.

• Fax: (202) 452-3819 or (202) 452-3102.

• Mail: Ann E. Misback, Secretary, Board of Governors of the Federal Reserve System, 20th Street and Constitution Avenue NW, Washington, DC 20551.

All public comments will be made available on the Board's website at https://www.federalreserve.gov/apps/foia/proposedregs.aspx as submitted, unless modified for technical reasons or to remove sensitive personally identifiable information. Public comments may also be viewed electronically and in-person in Room M-4365A, 2001 C St. NW, Washington, DC 20551, between 9:00 a.m. and 5:00 p.m. during federal business weekdays.

FOR FURTHER INFORMATION CONTACT: David B. Husband, Senior Counsel, (202) 530-6270 or david.b.husband@frb.gov; Legal Division, Board of Governors of the Federal Reserve System, 20th Street and Constitution Avenue NW, Washington, DC 20551. If you are deaf, hard of hearing, or have a speech disability, please dial 7-1-1 to access telecommunication relay services.

SUPPLEMENTARY INFORMATION: The Board is modifying this system of records to account for the addition to the system of information related to compliance by certain Board and Reserve Bank employees, including Board members and Reserve Bank presidents, with the rules and reporting requirements set out in the Federal Open Market Committee's (FOMC) Investment and Trading Policy for FOMC Officials (“investment and trading policy”). As a result, the Board is updating the “Categories of Records in the System” section to indicate that the system will include investment and trading activity information collected for the purposes of administering the investment and trading policy. In addition, the Board is updating the “Categories of Individuals Covered by the System” and “Record Source Categories” sections to indicate that the system will now include information relating to Reserve Bank personnel. In light of the purposes of the investment and trading policy and the new information that will be collected pursuant to the policy, the Board is also expanding the purpose of the system to align with the Board's commitment to upholding the highest standards of ethical conduct and the maintenance of public trust, which is critical to the execution of the Board's and the FOMC's monetary policy responsibilities.

Finally, in the “Categories of Records in the System” section, the Board is replacing the reference to “ethics inquiries” with a broader reference to “ethics matters;” updating the System Manager; and updating the “Administrative, Physical, and Technical Safeguards” section to better reflect the applicable safeguards.

SYSTEM NAME AND NUMBER:

BGFRS-41, “FRB—Ethics Program Records”

SECURITY CLASSIFICATION:

Unclassified.

SYSTEM LOCATION:

Board of Governors of the Federal Reserve System, 20th Street and Constitution Avenue NW, Washington, DC 20551.

SYSTEM MANAGER(S):

Sean Croston, Alternate Designated Agency Ethics Official, Legal Division, Board of Governors of the Federal Reserve System, 20th Street and Constitution Avenue NW, Washington, DC 20551, (202) 452-2810, or sean.d.croston@frb.gov.

AUTHORITY FOR MAINTENANCE OF THE SYSTEM:

12 U.S.C. 244; Ethics in Government Act of 1978, 5 U.S.C. app; Ethics Reform Act of 1989, Pub. L. 101-194; 5 CFR 2638.104(c)(2).

PURPOSE(S) OF THE SYSTEM:

This system of records enables the Board to administer the Board's Ethics Program consistent with applicable requirements in furtherance of the Board's commitment to uphold the highest standards of ethical conduct. This system of records also enables the Board to ensure public trust in the Board's as well as the Federal Open Market Committee's monetary policy responsibilities.

CATEGORIES OF INDIVIDUALS COVERED BY THE SYSTEM:

Individuals covered by this system consist of prospective, current, and former Board and Federal Reserve Bank employees, including Board members and Reserve Bank presidents.

CATEGORIES OF RECORDS IN THE SYSTEM:

This system covers records regarding ethics matters involving prospective, current, and former Board and Reserve Bank employees. For example, the records may contain, without limitation: the prospective, current, or former employee's name, address, telephone number, and email address; ethics advice (including waivers); compensated outside employment approvals (i.e., employment outside of or unrelated to the employee's official Board duties); information in support of Public Financial Disclosure Reports and Confidential Financial Disclosure Reports that is not already covered by the government-wide system of record notices “OGE/GOVT-1, Executive Branch Public Financial Disclosure Reports and Other Name-Retrieved Ethics Program Records” and “OGE/GOVT-2, Executive Branch Confidential Financial Disclosure Reports;” and information regarding investment and trading activity collected for the purposes of administering the Federal Open Market Committee's “Investment and Trading Policy for FOMC Officials.” In addition, the system may also contain records relating to the employment or financial interests of the family members of prospective, current, or former Board and Reserve Bank employees.

RECORD SOURCE CATEGORIES:

The primary source of the information is the prospective, current, or former Board or Reserve Bank employee. Other sources may include, but are not limited to, the employee's supervisors, attorneys, representatives, or family members, Office of Inspector General staff, and other Board or Reserve Bank staff.

ROUTINE USES OF RECORDS MAINTAINED IN THE SYSTEM, INCLUDING CATEGORIES OF USERS AND PURPOSES OF SUCH USES:

General routine uses, A, B, C, D, E, F, G, H, I, and J apply to this system. These general routine uses are located at https://www.federalreserve.gov/files/SORN-page-general-routine-uses-of-board-systems-of-records.pdf and are published in the Federal Register at 83 FR 43872 at 43873-74 (August 28, 2018).

POLICIES AND PRACTICES FOR STORAGE OF RECORDS:

Paper records in this system are stored in locked file cabinets with access limited to staff with a need to know. Electronic records are stored on a secure server with access limited to staff with a need to know.

POLICIES AND PRACTICES FOR RETRIEVAL OF RECORDS:

Paper and electronic records can be retrieved by name or other personal identifiers.

POLICIES AND PRACTICES FOR RETENTION AND DISPOSAL OF RECORDS:

The retention period for the records in this system is six years or when no longer needed for an active investigation, whichever is later, but longer retention is authorized if required for business use.

ADMINISTRATIVE, TECHNICAL, AND PHYSICAL SAFEGUARDS:

Paper records are secured by lock and key and electronic files are stored on secure servers. The system has the ability to track individual user actions within the system. The audit and accountability controls are based on NIST and Board standards which, in turn, are based on applicable laws and regulations. The controls assist in detecting security violations and performance or other issues in the system. Access to the system is restricted to authorized users who require access for official business purposes. Users are classified into different roles and common access and usage rights are established for each role. User roles are used to delineate between the different types of access requirements such that users are restricted to data that is required in the performance of their duties. Periodic assessments and reviews are conducted to determine whether users still require access, have the appropriate role, and whether there have been any unauthorized changes.

RECORD ACCESS PROCEDURES:

The Privacy Act allows individuals the right to access records maintained about them in a Board system of records. Your request for access must: (1) contain a statement that the request is made pursuant to the Privacy Act of 1974; (2) provide either the name of the Board system of records expected to contain the record requested or a concise description of the system of records; (3) provide the information necessary to verify your identity; and (4) provide any other information that may assist in the rapid identification of the record you seek.

Current or former Board employees may make a request for access by contacting the Board office that maintains the record. The Board handles all Privacy Act requests as both a Privacy Act request and as a Freedom of Information Act request. The Board does not charge fees to a requestor seeking to access or amend his/her Privacy Act records.

You may submit your Privacy Act request to the—Secretary of the Board, Board of Governors of the Federal Reserve System, 20th Street and Constitution Avenue NW, Washington, DC 20551.

You may also submit your Privacy Act request electronically by filling out the required information at: https://foia.federalreserve.gov/.

CONTESTING RECORD PROCEDURES:

The Privacy Act allows individuals to seek amendment of information that is erroneous, irrelevant, untimely, or incomplete and is maintained in a system of records that pertains to them. To request an amendment to your record, you should clearly mark the request as a “Privacy Act Amendment Request.” You have the burden of proof for demonstrating the appropriateness of the requested amendment and you must provide relevant and convincing evidence in support of your request.

Your request for amendment must: (1) provide the name of the specific Board system of records containing the record you seek to amend; (2) identify the specific portion of the record you seek to amend; (3) describe the nature of and reasons for each requested amendment; (4) explain why you believe the record is not accurate, relevant, timely, or complete; and (5) unless you have already done so in a related Privacy Act request for access or amendment, provide the necessary information to verify your identity.

NOTIFICATION PROCEDURES:

Same as “Access procedures” above. You may also follow this procedure in order to request an accounting of previous disclosures of records pertaining to you as provided for by 5 U.S.C. 552a(c).

EXEMPTIONS PROMULGATED FOR THE SYSTEM:

None.

HISTORY:

This system was previously published in the Federal Register at 84 FR 7054 (March 1, 2019).

Board of Governors of the Federal Reserve System.
Ann Misback,
Secretary of the Board.

[FR Doc. 2022-12033 Filed 6-3-22; 8:45 am]

BILLING CODE P